NATIONAL TRANSPORTATION SAFETY BOARD

Sunshine Act Meeting

TIME AND PLACE: 9:30 a.m., Tuesday, August 28, 2001.

PLACE: NTSB Conference Center, 429 L'Enfant Plaza, S.W., Washington, D.C. 20594.

STATUS: The one item is Open to the Public.

MATTER TO BE CONSIDERED: 7381 Highway Accident Report—Motorcoach Run-Off-the-Road Accident, New Orleans, Louisiana, on May 9, 1999.

NEWS MEDIA CONTACT: Telephone: (202) 314-6100. Individuals requesting specific accommodations should contact Ms. Carolyn Dargan at (202) 314-6305 by Friday, August 24, 2001.

FOR MORE FURTHER INFORMATION CONTACT: Vicky D'Onofrio, (202) 314-6410.

Dated: August 17, 2001.
Vicky D'Onofrio,
Federal Register Liaison Officer.

[FR Doc. 01-21177 Filed 8-17-01; 1:56 pm]

BILLING CODE 2533-01-M